INTERNATIONAL TRADE COMMISSION

[Investigation Nos. 731-TA-1064 and 1066-1068 (Third Review)]

Frozen Warmwater Shrimp From China, India, Thailand, and Vietnam; Determination

On the basis of the record ¹ developed in the subject five-year reviews, the United States International Trade Commission (“Commission”) determines, pursuant to the Tariff Act of 1930 (“the Act”), that revocation of the antidumping duty orders on frozen warmwater shrimp from China, India, Thailand, and Vietnam would be likely to lead to continuation or recurrence of material injury to an industry in the United States within a reasonably foreseeable time.

¹ The record is defined in § 207.2(f) of the Commission's Rules of Practice and Procedure (19 CFR 207.2(f)).

Background

The Commission instituted these reviews on May 2, 2022 (87 FR 25665) and determined on August 5, 2022 that it would conduct full reviews (87 FR 54260, September 2, 2022). Notice of the scheduling of the Commission's reviews and of a public hearing to be held in connection therewith was given by posting copies of the notice in the Office of the Secretary, U.S. International Trade Commission, Washington, DC, and by publishing the notice in the Federal Register on November 18, 2022 (87 FR 69338). The Commission conducted its hearing on April 11, 2023. All persons who requested the opportunity were permitted to participate.

The Commission made these determinations pursuant to section 751(c) of the Act (19 U.S.C. 1675(c)). It completed and filed its determinations in these reviews on June 20, 2023. The views of the Commission are contained in USITC Publication 5432 (June 2023), entitled Frozen Warmwater Shrimp from China, India, Thailand, and Vietnam: Investigation Nos. 731-TA-1064 and 1066-1068 (Third Review).

By order of the Commission.
Issued: June 20, 2023.
Katherine Hiner,
Acting Secretary to the Commission.

[FR Doc. 2023-13444 Filed 6-23-23; 8:45 am]

BILLING CODE 7020-02-P